DEPARTMENT OF DEFENSE

Office of the Secretary

[Docket ID: DoD-2022-OS-0089]

Proposed Collection; Comment Request

AGENCY: Chairman of the Joint Chiefs of Staff (CJCS), Department of Defense (DoD).

ACTION: 60-Day information collection notice.

SUMMARY: In compliance with the Paperwork Reduction Act of 1995, the Chairman of the Joint Chiefs of Staff, J7 announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 26, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Deployable Training Division, J7, Joint Chiefs of Staff, 116 Lakeview Parkway, Suffolk, VA 23435, ATTN: Lieutenant Colonel Ryan Little, or call 571-256-7397.

SUPPLEMENTARY INFORMATION:

Title; Associated Form; and OMB Number: Survey of Retired General and Flag Officers; OMB Control Number 0704-RGFO.

Needs and Uses: During the previous legislative proposal season, counsel recommended that prior to approval of the legislative proposal, the agency provide evidence that retired three and four-star flag and general officers did not apply as a DoD Highly Qualified Expert-Senior Mentors due to the requirement to file an annual public 278 financial disclosure. The best evidence is a survey of recent retirees of the population.

Affected Public: Individuals or households.

Annual Burden Hours: 5.

Number of Respondents: 30.

Responses per Respondent: 1.

Annual Responses: 30.

Average Burden per Response: 10 minutes.

Frequency: One-time.

Dated: July 20, 2022.
Aaron T. Siegel,
Alternate OSD Federal Register Liaison Officer, Department of Defense.

[FR Doc. 2022-15943 Filed 7-25-22; 8:45 am]

BILLING CODE 5001-06-P